COMMISSION ON CIVIL RIGHTS

Agenda and Notice of Public Meeting of the North Dakota Advisory Committee to the U.S. Commission on Civil Rights

Date And Time: Monday, April 2, 2012, 2 p.m. [MDT].

Place: Via Teleconference. Public Dial-in 1-800-516-9896. Conference ID: 8334.

TDD: Dial 711 for relay services and enter 1-800-516-9896, followed by Conference ID #:8334.

Notice is hereby given that a planning meeting of the North Dakota Advisory Committee to the U.S. Commission on Civil Rights will convene via teleconference. The purpose of the meeting is for the Advisory Committee to select a project topic to study.

Members of the public are entitled to submit written comments; the comments must be received in the regional office by May 2, 2012. Comments may be mailed to the Rocky Mountain Regional Office, U.S. Commission on Civil Rights, 999-18th Street, Suite 1380 South, Denver, CO 80202, faxed to (303) 866-1050, or emailed to ebohor@usccr.gov. In addition, persons who desire additional information may contact Malee Craft, Regional Director, Rocky Mountain Regional Office, by phone at (303) 866-1040.

Records generated from this meeting may be inspected and reproduced at the Rocky Mountain Regional Office, as they become available, both before and after the meeting. Persons interested in the work of this advisory committee are directed to the Commission's Web site, http://www.usccr.gov, or may contact the Rocky Mountain Regional Office at the above email, address, or telephone number.

To ensure that the Commission secures an appropriate number of telephone lines for the public, persons are asked to contact the Rocky Mountain Regional Office 10 days before the meeting date either by email at ebohor@usccr.gov or by phone.

The meeting will be conducted pursuant to the rules and regulations of the Commission and FACA.

Dated in Washington, DC, March 12, 2012.
Peter Minarik,
Acting Chief, Regional Programs Coordination Unit.

[FR Doc. 2012-6353 Filed 3-15-12; 8:45 am]

BILLING CODE 6335-01-P